Title 3—

The President

Proclamation 7302 of May 2, 2000

Jewish Heritage Week, 2000

By the President of the United States of America

A Proclamation

For centuries, Jews from every corner of the globe have come to America seeking the right to worship in freedom and to pursue their individual hopes and dreams in peace. For many, the journey was a desperate flight from oppression and persecution to a new life in a new country. Bolstered by powerful family and community ties and drawing strength and hope from their ancient religious traditions, Jews in America not only survived the difficult transition, but also thrived.

From science and the arts to business and the law; as teachers, physicians, journalists, judges, musicians, and policymakers; from neighborhood stores to the corridors of Congress; from the Armed Forces to the Supreme Court, generations of American Jews have succeeded in every sector of our society. And the rewards of that success are shared by us all. Our Nation has benefited immeasurably from the character, values, and achievements of our Jewish citizens.

Building on the Jewish tradition of hospitality toward strangers and acutely aware of the long and tragic history of prejudice and persecution against their people, Jews in America have committed themselves to tolerance, justice, human rights, and the rule of law. American Jews have shared their resources generously with health and human services programs, civil rights groups, educational institutions, arts organizations, and so many more. In communities across our Nation, in small towns and big cities, synagogues and yeshivas have become centers of community service and civic responsibility.

During Jewish Heritage Week, let us acknowledge and give thanks for the many contributions that Jews have brought to our national life and character, and let us celebrate the rich religious and ethnic threads that Jewish men and women have woven into the tapestry that is America.

NOW, THEREFORE, I, WILLIAM J. CLINTON, President of the United States of America, by virtue of the authority vested in me by the Constitution and laws of the United States, do hereby proclaim May 7 through May 14, 2000, as Jewish Heritage Week. I urge all Americans to observe this week with appropriate programs, ceremonies, and activities.

IN WITNESS WHEREOF, I have hereunto set my hand this second day of May, in the year of our Lord two thousand, and of the Independence of the United States of America the two hundred and twenty-fourth.

wj

[FR Doc. 00-11440

Filed 5-4-00; 8:45 am]

Billing code 3195-01-P